DEPARTMENT OF TRANSPORTATION

Federal Aviation Administration

Notice of Intent To Rule on Application To Impose and Use the Revenue From a Passenger Facility Charge (PFC) at Fayetteville Regional Airport, Fayetteville, NC

AGENCY: Federal Aviation Administration (FAA), DOT.

ACTION: Notice of intent to rule on application.

SUMMARY: The FAA proposes to rule and invites public comment on two projects that were inadvertently omitted from the May 25, 2000 Federal Register notice contained in the application to impose and use the revenue from a PFC at Fayetteville Regional Airport under the provisions of the Aviation Safety and Capacity Expansion Act of 1990 (Title IX of the Omnibus Budget Reconciliation Act of 1990) (Pub. L. 101-508) and part 158 of the Federal Aviation Regulations (14 CFR part 158).

DATES: Comments must be received on or before July 20, 2000.

ADDRESSES: Comments on this application may be mailed or delivered in triplicate to the FAA at the following address: Atlanta Airports District Office, 1701 Columbia Avenue, Suite 2-260, College Park, GA 30337-2747.

In addition, one copy of any comments submitted to the FAA must be mailed or delivered to Mr. Bradley S. Whited, Airport Director, of the City of Fayetteville a the following address: Mr. Bradley S. Whited, Airport Director, Fayetteville Regional Airport, P.O. Box 64218, Fayetteville, NC 28306.

Air carriers and foreign air carriers may submit copies of written comments previously provided to the City of Fayetteville under § 158.23 of Part 158.

FOR FURTHER INFORMATION CONTACT: Lee Kyker, Manager of Airport Programs, Atlanta Airports District Office, 1701 Columbia Avenue, Suite 2-260, College Park, GA 20227-2747, (404) 305-7161. The application may be reviewed in person at this same location.

SUPPLEMENTARY INFORMATION: The FAA proposes to rule and invites public comment on the application to impose and use the revenue from a PFC at Fayetteville Regional Airport under the provisions of the Aviation Safety and Capacity Expansion Act of 1990 (Title IX of the Omnibus Budget Reconciliation Act of 1990) (Pub. L. 101-508) and part 158 of the Federal Aviation Regulations (14 CFR part 158).

On May 12, 2000, the FAA determined that the application to impose and use the revenue from a PFC submitted by the City of Fayetteville was substantially complete within the requirements of § 158.25 of part 158. The FAA will approve or disapprove the application, in whole or in part, no later than September 8, 2000.

The following is a brief overview of the application.

PFC Application No.: 00-01-C-00-FAY.

Level of the proposed PFC: $3.00.

Proposed charge effective date: September 1, 2000.

Proposed charge expiration date: October 1, 2002.

Total estimated net PFC revenue: $942,620.

Brief description of proposed project(s) that were omitted from May 25, 2000 Federal Register Notice:

• Construct general aviation area (design only).

• Acquire handicap lift device.

Class or classes of air carriers which the public agency has requested not be required to collect PFCs: None.

Any person may inspect the application in person at the FAA office listed above under FOR FURTHER INFORMATION CONTACT.

In addition, any person may, upon request, inspect the application, notice and other documents germane to the application in person at the Federal Aviation Administration.

Issued in Atlanta, Georgia on June 27, 2000.
Scott L. Seritt,
Manager, Atlanta Airports District Office.

[FR Doc. 00-16920 Filed 7-3-00; 8:45 am]

BILLING CODE 4910-13-M